DEPARTMENT OF COMMERCE

National Oceanic and Atmospheric Administration

RIN: 0648-XP14

Pacific Fishery Management Council; Public Meeting

AGENCY: National Marine Fisheries Service (NMFS), National Oceanic and Atmospheric Administration (NOAA), Commerce.

ACTION: Notice of a public meeting.

SUMMARY: The Pacific Fishery Management Council's (Council) Habitat Committee (HC) will hold a meeting that is open to the public.

DATES: The HC meeting will be held Friday, June 5, 2008, from 8:30 a.m. until business for the day is completed.

ADDRESSES: The HC meeting will be held at the RiverPlace Hotel, Eliot/Marquam Room, 1510 SW Harbor Way, Portland, OR 97201; telephone: (503) 228-3233.

Council address: Pacific Fishery Management Council, 7700 NE Ambassador Place, Suite 101, Portland, OR 97220-1384.

FOR FURTHER INFORMATION CONTACT: Ms. Jennifer Gilden, Habitat Coordinator; telephone: (503) 820-2280.

SUPPLEMENTARY INFORMATION: The purpose of the HC meeting is to discuss habitat-related issues relevant to upcoming Council meetings.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Ms. Carolyn Porter at (503) 820-2280 at least 5 days prior to the meeting date.

Dated: May 5, 2009.
William D. Chappell,
Acting Director, Office of Sustainable Fisheries, National Marine Fisheries Service.

[FR Doc. E9-10842 Filed 5-8-09; 8:45 am]

BILLING CODE 3510-22-S